DEPARTMENT OF HOUSING AND URBAN DEVELOPMENT

[Docket No. FR-7082-N-14]

60-Day Notice of Proposed Information Collection: Continuum of Care (CoC) Program Homeless Assistance Grant Application; OMB Control No: 2506-0112

AGENCY: Office of Community Planning and Development, (HUD).

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 10, 2025.

ADDRESSES: Interested persons are invited to submit comments regarding this proposal. Written comments and recommendations for the proposed information collection can be sent within 60 days of publication of this notice to www.regulations.gov. Interested persons are also invited to submit comments regarding this proposal by name and/or OMB Control Number and can be sent to: Colette Pollard, Reports Management Officer, REE, Department of Housing and Urban Development, 451 7th Street SW, Room 8210, Washington, DC 20410-5000; telephone (202) 402-3400 (this is not a toll-free number) or email at Colette.Pollard@hud.gov for a copy of the proposed forms or other available information.

FOR FURTHER INFORMATION CONTACT: Robert Waters, Senior Program Specialist, Office of Special Needs Assistance Programs, Department of Housing and Urban Development, 451 7th Street SW, Washington, DC 20410; email Robert at Robert.P.Waters@hud.gov, telephone (202) 402-4494. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Mr. Waters or Ms. Pollard.

SUPPLEMENTARY INFORMATION: This notice informs the public that HUD is seeking approval from OMB for the information collection described in Section A.

A. Overview of Information Collection

Title of Information Collection: Continuum of Care (CoC) Program Homeless Assistance Grant Application.

OMB Approval Number: 2506-0112.

Type of Request: Extension of currently approved collection.

Description of the need for the information and proposed use: This submission is to request an extension of an existing collection in use with OMB Control Number 2506-0112, for the Recordkeeping for HUD's Continuum of Care Program grant application.

The CoC Consolidated Application has three parts: the CoC Application, CoC Priority Listing that lists all project applications with a rank number determined by CoCs in their local competition process, and Project Applications. HUD requires the submission of CoC applications from Collaborative Applicants to capture information related to the CoC's overall performance toward addressing homelessness (e.g., reducing the number of homelessness, increasing income), coordination with other federal and non-federal partners, planning process (e.g., reducing homelessness, length of time homeless), and other criteria required by the statute and current Administration policies. The information provided in CoC applications is reviewed and scored by HUD to determine the order in which HUD will select projects based on the ranking communicated in the CoC Priority Listing. The CoC Priority Listing collection notifies HUD if CoCs are reallocating current projects to create new projects and most importantly, to rank project applications with a unique number for funding consideration by HUD and determines the order in which projects are selected in order of each CoC. Project applications collect information for eligibility and quality threshold review to determine suitability for funding consideration. Successful project applications selected for award receiving funding to carry out the activities approved by HUD. The statutory and regulatory requirements related to the CoC Program and applicable supplementary documents are located on the CoC Program page on HUD's website on HUD's website.

Respondents (i.e., affected public): Nonprofit organizations, states, local governments, and instrumentalities of state and local governments, Indian Tribes, Tribally Designated Housing Entities (TDHEs) (as defined in section 4 of the Native American Housing Assistance and Self-Determination Act of 1996 (25 U.S.C. 4103)), and Public Housing Agencies (PHAs), as such term is defined in 24 CFR 5.100.

Information Collection/Form Number: Information is collected via the electronic e-snaps application system.

Estimated Number of Respondents: 405.

Estimated Number of Responses: 405.

Frequency of Response: Annually.

Responses Per Annum: 405.

Average Hours per Response: See chart.

Total Estimated Burdens: See chart; however, the information included in the chart below is subject to change due to: (1) increase or decrease, based on the number of CoCs due to CoC mergers, splits, or creation of new CoCs; and (2) changes may occur annually in the number of project applicants due to new project applicants applying for first-time funding, expiring new projects becoming eligible for first-time renewal, and other existing project applicants deciding to no longer apply for funds.

Information collection | Number of respondents | Frequency of response | Responses per annum | Burden hour per response | Annual burden hours | Hourly cost per response | Annual cost
CoC Consolidated Application | 405 | 1 | 405 | 84 | 34,020 | 43.55 | $1,481,571.00
Project Applications | 9,740 | 1 | 9,740 | 8.3 | 80,842 | 43.55 | 3,520,669.1
Total | 10,145 | 1 | 10,145 |  |  |  | 5,002,240.1

The total number of respondents is subject to change annually due to CoCs merging or splitting and with newly created CoCs due to authorizing language expanding eligibility (e.g., FY 2021 appropriations language authorizing the Indian Tribes and TDHEs eligibility to form CoCs, submit CoC Consolidated applications, and project applications).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Marion M. McFadden,
Principal Deputy Assistant Secretary for Community Planning and Development.

[FR Doc. 2025-00077 Filed 1-6-25; 8:45 am]

BILLING CODE 4210-67-P